NUCLEAR REGULATORY COMMISSION

10 CFR Part 35

[Docket No. PRM-35-21; NRC-2020-0037]

Patient Release Criteria for Radioactive Iodine

AGENCY: Nuclear Regulatory Commission.

ACTION: Petition for rulemaking; withdrawal by petitioner.

SUMMARY: The U.S. Nuclear Regulatory Commission (NRC) is announcing the withdrawal, without prejudice to a future filing, of a petition for rulemaking (PRM-35-21), dated November 15, 2019, filed by Peter Crane on behalf of Sensible Controls on Administrations of Radioactive Iodine. The petitioner requested that the NRC revise its regulations regarding the criteria for patient release after the administration of radioactive iodine. By letter dated May 22, 2020, the petitioner withdrew the petition.

DATES: The docket for PRM-35-21, is closed on July 10, 2020.

ADDRESSES: Please refer to Docket ID NRC-2020-0037 when contacting the NRC about the availability of information regarding this petition. You may obtain publicly-available information related to this action by any of the following methods:

• Federal Rulemaking website: Go to https://www.regulations.gov and search for Docket ID NRC-2020-0037. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• Attention: The Public Document Room (PDR), where you may examine and order copies of public documents, is currently closed. You may submit your request to the PDR via email at PDR.Resource@nrc.gov or call 1-800-397-4209 between 8:00 a.m. and 4:00 p.m. (EST), Monday through Friday, except Federal holidays.

FOR FURTHER INFORMATION CONTACT: Pamela Noto, Office of Nuclear Material Safety and Safeguards, U.S. Nuclear Regulatory Commission, Washington, DC 20555-0001; telephone: 301-415-6795, email: Pamela.Noto@nrc.gov.

SUPPLEMENTARY INFORMATION: On November 15, 2019, the NRC received a petition for rulemaking from Peter Crane, on behalf of Sensible Controls on Administrations of Radioactive Iodine, requesting revision to the criteria in § 35.75 of title 10 of the Code of Federal Regulations related to patient release after the administration of radioactive iodine. The NRC docketed the petition on January 24, 2020 (Docket No. PRM-35-21). On May 22, 2020, the petitioner submitted a request to withdraw his petition (ADAMS Accession No. ML20143A159) given the COVID-19 public health emergency. The NRC acknowledges withdrawal of the petition and is closing Docket No. PRM-35-21; NRC-2020-0037.

Dated: July 1, 2020.
For the Nuclear Regulatory Commission.
Annette L. Vietti-Cook,
Secretary of the Commission.

[FR Doc. 2020-14599 Filed 7-9-20; 8:45 am]

BILLING CODE 7590-01-P